OFFICE OF PERSONNEL MANAGEMENT

Submission for OMB Review; Request for Comments on a Revised Information Collection: (OMB Control No. 3206-0228; Standard Form 3112)

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. This information collection, “CSRS/FERS Documentation in Support of Disability Retirement Application” (OMB Control No. 3206-0228; Standard Form 3112), collects information from applicants for disability retirement so that OPM can determine whether to approve a disability retirement. The applicant will only complete Standard Forms 3112A and 3112C. Standard Forms 3112B, 3112D and 3112E will be completed by the immediate supervisor and the employing agency of the applicant.

Approximately 12,100 disability retirements are processed annually. We estimate it takes one hour to fill out SF 3112C. A burden of 12,100 hours is estimated for SF 3112C. SF 3112A is used each year by approximately 1,350 persons who are not Federal employees. We estimate it takes 30 minutes to fill out SF 3112A. A burden of 675 hours is estimated for SF 3112A. The total burden for SF 3112 is 12,775 hours.

All 12,100 respondents must use SF 3112C; of the 12,100, only 1,350 respondents are not Federal Employees and use SF 3112A.

For copies of this proposal, contact Cyrus S. Benson on (202) 606-4808, FAX (202) 606-0910 or via E-mail to Cyrus.Benson@opm.gov. Please include a mailing address with your request.

DATES: Comments on this proposal should be received within 30 days from the date of this publication.

ADDRESSES: Send or deliver comments to—James K. Freiert, Deputy Associate Director (Acting), Retirement Operations, Retirement and Benefits, U.S. Office of Personnel Management, 1900 E Street, NW., Room 3305, Washington, DC 20415-3500, and OPM Desk Officer, Office of Information & Regulatory Affairs, Office of Management and Budget, New Executive Office Building, 725 17th Street, NW., Room 10235, Washington, DC 20503.

For information regarding administrative coordination contact: Cyrus S. Benson, Team Leader, Publications Team, Retirement & Benefits/Resource Mgmt., U.S. Office of Personnel Management, 1900 E Street, NW., Room 4H28, Washington, DC 20415, (202) 606-4808.

U.S. Office of Personnel Management.
John Berry,
Director.

[FR Doc. 2010-7926 Filed 4-6-10; 8:45 am]

BILLING CODE 6325-38-P